DEPARTMENT OF COMMERCE

National Oceanic and Atmospheric Administration

RIN 0648-XC802

New England Fishery Management Council; Public Meetings

AGENCY: National Marine Fisheries Service (NMFS), National Oceanic and Atmospheric Administration (NOAA), Commerce.

ACTION: Notice; public meetings.

SUMMARY: The New England Fishery Management Council (Council) will hold public meetings of two of its advisory bodies, the ABC Control Rule Working Group (ABC WG) and Electronic Monitoring Working Group (EM WG).

DATES: The first meeting of the ABC Control Rule Working Group will be on Tuesday, September 3, 2013. The meeting will be held at the Doubletree by Hilton in Danvers, MA and it will start at 10 a.m. Additional meetings may be held between August 15, 2013 and January 31, 2014. Specific information about the dates, times and places for the meetings will be posted on the Council's Web site, http://nefmc.org/.

FOR FURTHER INFORMATION CONTACT: Thomas A. Nies, Executive Director, New England Fishery Management Council; telephone: (978) 465-0492.

SUPPLEMENTARY INFORMATION: The Council has established these working groups to develop background information and approaches to problems and issues to be considered by the Council and its committees. The working groups will not make any final decisions about the selection of approaches or alternatives that might be adopted by the Council.

The purpose of the ABC Control Rule Working Group is to prepare a work plan on how the Council should proceed in developing acceptable biological catch (ABC) control rules that incorporate the Council's risk tolerance into the process for setting ABCs. The work plan will enable the Council to approve a process for developing the risk policy as a Council priority.

The purpose of the Electronic Monitoring Working Group is to identify barriers or necessary steps to the approval by NMFS of Northeast Multispecies (Groundfish) sector operations plans that rely on electronic monitoring to achieve the compliance and catch attribution requirements for groundfish sectors.

Special Accommodations

The meetings will be physically accessible to people with disabilities. Requests for sign language interpretation or other auxiliary aids should be directed to Thomas A. Nies, Executive Director, at (978) 465-0492, at least 5 days prior to the meeting date.

Authority: 16 U.S.C. 1801 et seq.

Dated: August 7, 2013.
Tracey L. Thompson,
Acting Deputy Director, Office of Sustainable Fisheries, National Marine Fisheries Service.

[FR Doc. 2013-19446 Filed 8-9-13; 8:45 am]

BILLING CODE 3510-22-P